DEPARTMENT OF ENERGY

Federal Energy Regulatory Commission

[Docket No. RP01-493-000]

ANR Pipeline Company; Notice of Proposed Changes in FERC Gas Tariff

July 27, 2001.

Take notice that on July 23, 2001, ANR Pipeline Company (ANR) tendered for filing as part of its FERC Gas Tariff, Second Revised Volume No. 1, the following tariff sheets with an effective date of August 22, 2001:

Twelfth Revised Sheet No. 1

Seventh Revised Sheet No. 191

ANR states that these tariff sheets modify ANR's tariff to provide for a general waiver of the “shipper must have title rule” in the event that ANR is transporting gas for others on acquired off-system capacity and to include a general statement that ANR will only transport for others using off-system capacity pursuant to its existing tariff and rates.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary,

[FR Doc. 01-19278 Filed 8-1-01; 8:45 am]

BILLING CODE 6717-01-P